DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Application for the President's “E” and “E STAR” Awards for Export Expansion.

Agency Form Number: ITA-725P.

OMB Number: 0625-0065.

Type of Request: Regular submission.

Estimated Burden: 200.

Estimated Number of Respondents: 10.

Est. Avg. Hours per Response: 20 hours.

Needs and Uses: The President's “E” Award for Excellence in Exporting is our nation's highest award to honor American exporters. “E” Awards recognize firms and organizations for their competitive achievements in world markets, as well as the benefits of their success to the U.S. economy. The President's “E-Star” Award recognizes the sustained prior international marketing performance of “E” Award winners.

Affected public: Business and other for-profit; not for profit institutions; individuals or households; farms; and State, local, or tribal governments.

Frequency: On occasion.

Respondents Obligation: Voluntary.

OMB Desk Officer: David Roster, (202) 395-7340.

Copies of the above information collection proposal can be obtained by calling or writing Diana Hynek, Departmental Paperwork Clearance Officer, Department of Commerce, Room 6625, 14th & Constitution Ave., NW., Washington, DC 20230. Phone (202) 482-0266.

Written comments and recommendations for the proposed information collection should be sent to David Rostker, OMB Desk Officer, Room 10202, New Executive Office Building, Washington, DC 20503 within 30 days of the publication of this notice in the Federal Register.

Dated: July 12, 2004.
Madeleine Clayton,
Office of the Chief Information Officer.

[FR Doc. 04-16136 Filed 7-15-04; 8:45 am]

BILLING CODE 3510-FP-P